DEPARTMENT OF THE INTERIOR

National Park Service

[NPS-WASO-NAGPRA-17465; PPWOCRADN0-PCU00RP14.R50000]

Notice of Intent To Repatriate Cultural Items: U.S. Department of the Interior, National Park Service, Horseshoe Bend National Military Park, Daviston, AL

AGENCY: National Park Service, Interior.

ACTION: Notice.

SUMMARY: The U.S. Department of the Interior, National Park Service, Horseshoe Bend National Military Park, in consultation with the appropriate Indian tribes or Native Hawaiian organizations, has determined that the cultural items listed in this notice meet the definition of unassociated funerary objects. Lineal descendants or representatives of any Indian tribe or Native Hawaiian organization not identified in this notice that wish to claim these cultural items should submit a written request to Horseshoe Bend National Military Park. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to Horseshoe Bend National Military Park at the address in this notice by March 6, 2015.

ADDRESSES: Doyle Sapp, Superintendent, Horseshoe Bend National Military Park, 11288 Horseshoe Bend Road, Daviston, AL 36256, telephone (256) 234-7111x226, email doyle_sapp@nps.gov.

SUPPLEMENTARY INFORMATION: Notice is here given in accordance with the Native American Graves Protection and Repatriation Act (NAGPRA), 25 U.S.C. 3005, of the intent to repatriate cultural items under the control of the U.S. Department of the Interior, National Park Service, Horseshoe Bend National Military Park, Daviston, AL that meet the definition of unassociated funerary objects under 25 U.S.C. 3001.

This notice is published as part of the National Park Service's administrative responsibilities under NAGPRA, 25 U.S.C. 3003(d)(3). The determinations in this notice are the sole responsibility of the Superintendent, Horseshoe Bend National Military Park.

History and Description of the Cultural Items

At an unknown date, 140 cultural items were removed from an unknown site within the boundaries of Horseshoe Bend National Military Park in Tallapoosa County, AL. The cultural items were donated to Horseshoe Bend National Military Park in 1965 by James Warren. While the original provenience of the objects is unknown, park donation receipts indicate that they were removed from burial contexts. The whereabouts of the human remains are unknown. The 140 unassociated funerary objects are 88 straight brass pins, 6 antler fragments, 7 small spherical brass bells, 1 ball and pendant cone silver earring, 2 rolled sheet copper metal fragments, 3 metal buckles, 1 flat copper wire bracelet, 5 copper disc buttons, 2 semi-circular grey flint tools, 2 small polished stone pebbles, 2 complete cone-shaped brass buttons, 16 cone-shaped brass button fragments, 3 stone projectile points, and 2 calcined marine shells.

In 1921, 125 cultural items were removed from an unnamed site near Enitachopco Creek, in Tallapoosa County, AL. The cultural items were donated to Horseshoe Bend National Military Park in 1978 by Mrs. Joe Murphee. Ms. Murphee indicated on a donation questionnaire that the items were removed from a Native American grave near the farm of Andrew H. Watson by Jim Brittain, a tenant of Ms. Murphee's uncle. The whereabouts of the human remains are unknown. The 125 unassociated funerary objects are 125 trade beads.

The unassociated funerary objects date to the historic period (late 16th-early 19th century), and originate from Tallapoosa County, AL. The Tallapoosa County area was historically occupied by Upper Creek Muscogee peoples. Upper Creek Muscogee descendants now are members of several Indian tribes including Kialegee Tribal Town, Poarch Band of Creeks (previously listed as the Poarch Band of Creek Indians of Alabama), The Muscogee Creek Nation, and Thlopthlocco Tribal Town. The area was also historically occupied by Alabama and Coushatta peoples, who were later members of the Creek confederacy and shared many cultural traditions with the Creek. Descendants of these groups now are members of the Alabama-Coushatta Tribe of Texas (previously listed as the Alabama-Coushatta Tribes of Texas), Alabama-Quassarte Tribal Town, and Coushatta Tribe of Louisiana.

Determinations Made by Horseshoe Bend National Military Park

Officials of Horseshoe Bend National Military Park have determined that:

• Pursuant to 25 U.S.C. 3001(3)(B), the 265 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Alabama-Coushatta Tribe of Texas (previously listed as the Alabama-Coushatta Tribes of Texas), Alabama-Quassarte Tribal Town, Coushatta Tribe of Louisiana, Kialegee Tribal Town, Poarch Band of Creeks (previously listed as the Poarch Band of Creek Indians of Alabama), The Muscogee (Creek) Nation, and Thlopthlocco Tribal Town.

Additional Requestors and Disposition

Lineal descendants or representatives of any Indian tribe or Native Hawaiian organization not identified in this notice that wish to claim these cultural items should submit a written request with information in support of the claim to Doyle Sapp, Superintendent, Horseshoe Bend National Military Park, 11288 Horseshoe Bend Road, Daviston, AL 36256, telephone (256) 234-7111 x 226, email doyle_sapp@nps.gov, by March 6, 2015. After that date, if no additional claimants have come forward, transfer of control of the unassociated funerary objects to the Alabama-Coushatta Tribe of Texas (previously listed as the Alabama-Coushatta Tribes of Texas), Alabama-Quassarte Tribal Town, Coushatta Tribe of Louisiana, Kialegee Tribal Town, Poarch Band of Creeks (previously listed as the Poarch Band of Creek Indians of Alabama), The Muscogee (Creek) Nation, and Thlopthlocco Tribal Town may proceed.

Horseshoe Bend National Military Park is responsible for notifying the Alabama-Coushatta Tribe of Texas (previously listed as the Alabama-Coushatta Tribes of Texas), Alabama-Quassarte Tribal Town, Coushatta Tribe of Louisiana, Kialegee Tribal Town, Poarch Band of Creeks (previously listed as the Poarch Band of Creek Indians of Alabama), The Muscogee (Creek) Nation, and Thlopthlocco Tribal Town that this notice has been published.

Dated: January 9, 2015.
Melanie O'Brien,
Acting Manager, National NAGPRA Program.

[FR Doc. 2015-02213 Filed 2-3-15; 8:45 am]

BILLING CODE 4312-50-P